DEPARTMENT OF HEALTH AND HUMAN SERVICES

Centers for Disease Control and Prevention

[60Day-13-13[H]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Work@Health Program: Phase 2 Training and Technical Assistance Evaluation—New—National Center for Chronic Disease Prevention and Health Promotion (NCCDPHP), Centers for Disease Control and Prevention (CDC).

Background and Brief Description

In the United States, chronic diseases such as heart disease, obesity and diabetes are among the leading causes of death and disability. Although chronic diseases are among the most common and costly health problems, they are also among the most preventable. Adopting healthy behaviors—such as eating nutritious foods, being physically active and avoiding tobacco use—can prevent the devastating effects and reduce the rates of these diseases.

Employers are recognizing the role they can play in creating healthy work environments and providing employees with opportunities to make healthy lifestyle choices. To support these efforts, the Centers for Disease Control and Prevention (CDC) plans to offer a comprehensive workplace health program called Work@Health. The Work@Health Program is authorized by the Public Health Service Act and funded through the Prevention and Public Health Fund of the Patient Protection and Affordable Care Act (ACA). The Work@Health curriculum will be based on a problem-solving approach to improving employer knowledge and skills related to effective, science-based workplace health programs, and supporting the adoption of these programs in the workplace. Topics to be covered in the Work@Health curriculum include principles, strategies, and tools for leadership engagement; how to make a business case for workplace health programs; how to assess the needs of organizations and individual employees; how to plan, implement, and evaluate sustainable workplace health programs; and how to partner with community organizations for additional support.

The Work@Health Program will be implemented in two phases. In Phase 1, CDC will conduct an employer needs assessment, develop training models, and conduct pilot training and evaluation with approximately 60 employers and other organizations. In Phase 2, CDC will transition to full-scale program implementation and evaluation involving approximately 540 employers, as well as approximately 60 individuals with training and experience in workplace health who are interested in becoming trained/certified instructors for the Work@Health Program.

CDC will offer training in four models (formats): (1) A “Hands-on” instructor-led workshop model (T1); (2) a self-paced “Online” model (T2); (3) a combination or “Blended” model (T3); and (4) a “Train-the-Trainer” model (T4) designed to prepare qualified individuals to train other employers using the Work@Health curricula. Employers who complete the T1-T3 training will be invited to participate in peer learning networks and receive technical assistance from coaches to support their efforts to implement or enhance their workplace health programs. Technical assistance will also be provided to the individuals who complete the T4 model to help prepare them to provide the Work@Health training to employers.

To be eligible for the T1-T3 trainings, employers must have a minimum of 30 employees, a valid business license, and have been in business for at least one year. In addition, they must offer health insurance to their employees and have at least minimal workplace health program knowledge and experience. Applicants for the T4 training model must have previous knowledge, training and experience with workplace health programs and an interest in becoming instructors for the Work@Health program. They may be referred by employers, health departments, business coalitions, trade associations, or other organizations.

CDC is requesting OMB approval to initiate Phase 2 information collection in December 2013. CDC plans to collect information needed to select the employers who will participate in the T1-T3 trainings and the individuals who will participate in the T4 Train-the-Trainer model; to describe the implementation of the Work@Health program; to obtain reactions to the training and technical assistance from trainees, instructors, and coaches; to assess changes in trainees' knowledge, awareness, behavior and skill level before and after participation in Work@Health; and to evaluate the impact of Work@Health on the adoption of workplace health programs, policies and environmental supports among participating employers. In addition, for one year after the implementation period, CDC will continue to collect information to assess the sustainability of organizational level changes in workplace health programs and policies.

OMB approval is requested for two years for Phase 2 information collection. Information will be used to evaluate the effectiveness of the Work@Health program and to identify the best way(s) to deliver skill-based workplace health training and technical support to employers.

Participation in Work@Health is voluntary and there are no costs to participants other than their time and cost of travel.

Estimated Annualized Burden Hours
Type of respondent | Form name | Number of respondents | Number of responses per respondent | Average burden per response (in hours) | Total burden (in hours)
Interested Employer | Employer Application Form | 600 | 1 | 20/60 | 200
Employers Participating in the Work@Health Program | CDC Worksite Health Scorecard Organizational Assessment | 540 540 | 1 1 | 30/60 15/60 | 270 135
| Employer Follow-up Survey | 270 | 1 | 30/60 | 135
| Case Study Interviews with Senior Leadership | 3 | 1 | 1 | 3
| Case Study Interviews with Employees | 6 | 1 | 1 | 6
Trainees Participating in the Work@Health Program | Trainee KAB Survey Trainee Reaction Survey—Hands-On Model | 1,080 180 | 1 1 | 20/60 15/60 | 360 45
| Trainee Reaction Survey—Online Model | 180 | 1 | 15/60 | 45
| Trainee Reaction Survey—Blended Model | 180 | 1 | 15/60 | 45
| Trainee Technical Assistance Survey | 1,080 | 1 | 15/60 | 270
| Case Study Interviews with Selected Trainees | 15 | 1 | 1 | 15
| Focus Group with Trainees | 11 | 1 | 1.5 | 17
Trainees Participating in the Train-the-Trainer Model | Train-the-Trainer Application Trainee Facilitation Survey | 60 60 | 1 1 | 30/60 20/60 | 30 20
| Trainee Reaction Survey | 30 | 1 | 15/60 | 8
| Train-the-Trainer Trainee Technical Assistance Survey | 60 | 1 | 15/60 | 15
Trainees Participating in the Work@Health Program Wave 2 | Wave 2 Trainee Reaction Survey | 150 | 1 | 15/60 | 38
Instructors/Coaches | Group Discussions with Instructors/Coaches | 11 | 1 | 30/60 | 6
Total |  |  |  |  | 1,663

Leroy A. Richardson,
Chief, Information Collection Review Office, Office of Scientific Integrity, Office of the Associate Director for Science, Office of the Director, Centers for Disease Control and Prevention.

[FR Doc. 2013-17739 Filed 7-23-13; 8:45 am]

BILLING CODE 4163-18-P